DEPARTMENT OF THE INTERIOR

National Park Service

Notice of Inventory Completion for Native American Human Remains and Associated Funerary Objects in the Possession of the Department of Anthropology, San Francisco State University, San Francisco, CA

AGENCY: National Park Service, Interior.

ACTION: Notice.

Notice is hereby given in accordance with provisions of the Native American Graves Protection and Repatriation Act (NAGPRA), 43 CFR 10.9, of the completion of an inventory of human remains and associated funerary objects in the possession of the Department of Anthropology, San Francisco State University, San Francisco, CA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Department of Anthropology, San Francisco State University professional staff in consultation with representatives of the United Auburn Indian Community, the Washoe Tribe of Nevada & California, and the Mooretown Rancheria of Maidu Indians of California.

In 1964, human remains representing five individuals were recovered from CA-PLA-17, a site near Ophir, CA, that was excavated by San Francisco State University as part of the Middle Fork American River project. No known individuals were identified. The seven associated funerary objects are flaked stone, ground stone, shell, and quartz crystals.

Archeological evidence, geographic location, historical documentation, and oral history records indicate that these human remains and associated funerary objects are Native American and are reasonably believed to be associated with the Maidu Indians. The typology of the basalt projectile points recovered from the site links them with the archeological Martis culture, a predecessor of the Maidu/Nisenan cultural group. Historical documents indicate that the Maidu people have occupied this area of California since the period of Euro-American contact, and oral history records presented during consultation support this affiliation.

Based on the above-mentioned information, officials of the Department of Anthropology, San Francisco State University have determined that, pursuant to 43 CFR 10.2 (d)(1), the human remains listed above represent the physical remains of five individuals of Native American ancestry. Officials of the Department of Anthropology, San Francisco State University also have determined that, pursuant to 43 CFR 10.2 (d)(2), the seven objects listed above are reasonably believed to have been placed with or near individual human remains at the time of death or later as part of the death rite or ceremony. Lastly, officials of the Department of Anthropology, San Francisco State University have determined that, pursuant to 43 CFR 10.2 (e), there is a relationship of shared group identity that can be reasonably traced between these Native American human remains and associated funerary objects and the United Auburn Indian Community, the Washoe Tribe of Nevada & California, and the Mooretown Rancheria of Maidu Indians of California.

This notice has been sent to officials of the United Auburn Indian Community, the Washoe Tribe of Nevada & California, and the Mooretown Rancheria of Maidu Indians of California. Representatives of any other Indian tribe that believes itself to be culturally affiliated with these human remains and associated funerary objects should contact Jeff Fentress, NAGPRA Coordinator, Department of Anthropology, San Francisco State University, 1600 Holloway Avenue, San Francisco, CA 94132, telephone (415) 338-2046, before January 22, 2001. Repatriation of the human remains and associated funerary objects to the United Auburn Indian Community, the Washoe Tribe of Nevada & California, and the Mooretown Rancheria of Maidu Indians of California may begin after that date if no additional claimants come forward.

Dated: December 14, 2000.
John Robbins,
Assistant Director, Cultural Resources Stewardship and Partnerships.

[FR Doc. 00-32660 Filed 12-21-00; 8:45 am]

BILLING CODE 4310-70-F